DEPARTMENT OF COMMERCE

International Trade Administration

[A-427-801]

Ball Bearings and Parts Thereof From France: Final Results of Changed-Circumstances Review

AGENCY: Import Administration, International Trade Administration, Department of Commerce.

SUMMARY: The Department of Commerce (the Department) has determined, pursuant to section 751(b) of the Tariff Act of 1930, as amended (the Act), that SKF Aeroengine France S.A.S.U. (SKF Aeroengine) is the successor-in-interest to SNFA S.A.S.U. and, as a result, should be accorded the same treatment as SNFA S.A.S.U.

DATES: Effective Date: December 10, 2009.

FOR FURTHER INFORMATION CONTACT: Kristin Case or Richard Rimlinger, AD/CVD Operations, Office 5, Import Administration, International Trade Administration, U.S. Department of Commerce, 14th Street and Constitution Avenue, NW., Washington, DC 20230; (202) 482-3174 or (202) 482-4477, respectively.

SUPPLEMENTARY INFORMATION:

Background

The Department of Commerce (the Department) published an antidumping duty order on ball bearings and parts thereof from France on May 15, 1989. See Antidumping Duty Orders: Ball Bearings, Cylindrical Roller Bearings, Spherical Plain Bearings, and Parts Thereof From France, 54 FR 20902 (May 15, 1989). On August 11, 2000, the Department revoked the order, effective May 1, 1999, with respect to sales of ball bearings by SNFA S.A. (subsequently SNFA S.A.S.U.) (SNFA France). See Antifriction Bearings (Other Than Tapered Roller Bearings) and Parts Thereof From France, Germany, Italy, Japan, Romania, Singapore, Sweden, and the United Kingdom; Final Results of Antidumping Duty Administrative Reviews and Revocation of Orders in Part, 65 FR 49219, 49221 (August 11, 2000).

On March 2, 2007, pursuant to a request from SNFA France, SKF France S.A., and SKF Aerospace France S.A.S., we initiated a changed-circumstances review in order to determine whether SNFA France was a successor-in-interest to SKF France S.A. following SNFA France's acquisition by that company or, alternatively, that post-acquisition SNFA France was the successor-in-interest to the pre-acquisition SNFA France. See Ball Bearings and Parts Thereof from France: Initiation of an Antidumping Duty Changed-Circumstances Review, 72 FR 9513 (March 2, 2007). During the course of the changed-circumstances review, the companies informed the Department that SNFA France would be changing its name to SKF Aeroengine.

On June 29, 2007, we initiated an administrative review of the antidumping duty order on ball bearings and parts thereof from France for the period May 1, 2006, through April 30, 2007, with respect to SKF France S.A. and SKF Aerospace France S.A.S. See Initiation of Antidumping and Countervailing Duty Administrative Reviews, Request for Revocation in Part and Deferral of Administrative Review, 72 FR 35690 (June 29, 2007). On October 26, 2007, we rescinded the changed-circumstances review initiated on March 2, 2007, and explained that, because we had initiated an administrative review with respect to SKF France S.A. and SKF Aerospace France S.A.S., we would address any issues that had arisen during the course of the changed-circumstances review in the context of the administrative review. See Ball Bearings and Parts Thereof from France and Italy: Rescission of Antidumping Duty Changed-Circumstances Reviews, 72 FR 60798, 60799 (October 26, 2007). In the final results of the 2006/07 administrative review, we determined that post-acquisition SNFA France was the successor-in-interest to pre-acquisition SNFA France and that SNFA France had not changed its name to SKF Aeroengine until after the period of review. See Ball Bearings and Parts Thereof From France, Germany, Italy, Japan, and the United Kingdom: Final Results of Antidumping Duty Administrative Reviews and Rescission of Reviews in Part, 73 FR 52823 (September 11, 2008), and accompanying Issues and Decision Memorandum at Comment 12 (AFBs Final Results).

On February 6, 2009, SKF Aeroengine requested that, because the Department appeared to have left open the effect of the name change from SNFA France to SKF Aeroengine on its determination in AFBs Final Results, the Department either confirm that its determination encompassed the name change or, in the alternative, the Department initiate a changed-circumstances review to determine whether SKF Aeroengine is the successor-in-interest to SNFA France. On March 30, 2009, we initiated a changed-circumstances review. See Ball Bearings and Parts Thereof from France: Initiation of Antidumping Duty Changed-Circumstances Review, 74 FR 14107 (March 30, 2009). On June 9, 2009, we preliminarily found that SKF Aeroengine is the successor in interest to SNFA France. See Ball Bearings and Parts Thereof from France: Preliminary Results of Changed-Circumstances Review, 74 FR 27280 (June 9, 2009). We received a case brief from The Timken Company and a rebuttal brief from SKF Aeroengine, SKF France S.A., and SKF Aerospace France S.A.S. We did not hold a hearing as none was requested.

Scope of the Order

The products covered by the order are ball bearings (other than tapered roller bearings) and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the Harmonized Tariff Schedule, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Although the HTSUS item numbers above are provided for convenience and customs purposes, the written description of the scope of the order is dispositive.

Analysis of Comment Received

The issues raised in the case briefs by parties in this review are addressed in the Issues and Decision Memorandum from John M. Andersen, Acting Deputy Assistant Secretary for Antidumping and Countervailing Duty Operations, to Ronald K. Lorentzen, Deputy Assistant Secretary for Import Administration, dated concurrently with this notice (Decision Memo), which is hereby adopted by this notice. A list of the issues which parties have raised and to which we have responded is in the Decision Memo and attached to this notice as an Appendix. The Decision Memo, which is a public document, is on file in the Central Records Unit, main Department of Commerce building, Room 1117, and is accessible on the Web at http://ia.ita.doc.gov/frn. The paper copy and electronic version of the Decision Memo are identical in content.

Final Results of Changed-Circumstances Review

For the reasons stated in the preliminary results, we continue to find that SKF Aeroengine is the successor-in-interest to SNFA France and, as a result, should be accorded the same treatment as SNFA France. We will instruct U.S. Customs and Border Protection to liquidate, without regard to antidumping duties, all unliquidated entries produced and exported by SKF Aeroengine which were entered, or withdrawn from warehouse, for consumption on or after September 3, 2007, the date of SNFA France's name change to SKF Aeroengine. See Stainless Steel Wire Rod from Italy: Notice of Final Results of Changed Circumstances Antidumping Duty Review, 71 FR 24643, 24644 (April 26, 2006); see also Certain Hot-Rolled Lead and Bismuth Carbon Steel Products From the United Kingdom: Final Results of Changed-Circumstances Antidumping and Countervailing Duty Administrative Reviews, 64 FR 66880, 66881 (November 30, 1999).

Notification

This notice serves as a reminder to parties subject to administrative protective orders (APOs) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: December 4, 2009.
Ronald K. Lorentzen,
Deputy Assistant Secretary for Import Administration.

Appendix

1. Successorship

2. Applicable Cash-Deposit Rate

[FR Doc. E9-29470 Filed 12-9-09; 8:45 am]

BILLING CODE 3510-DS-P